DEPARTMENT OF AGRICULTURE

Forest Service

Southwestern Region, Arizona, Apache-Sitgreaves, Coconino, Kaibab, Prescott, and Tonto National Forests; Amendment to National Forest Land and Resource Management Plans To Determine How and if Cross-Country Travel by Off Highway Vehicles (OHVs) Should Be Allowed

AGENCY: Forest Service, USDA.

ACTION: Notice of intent to prepare an environmental impact statement.

SUMMARY: The Apache-Sitgreaves, Coconino, Kaibab, Prescott, and Tonto National Forests will prepare an environmental impact statement to address cross-country travel by motorized wheeled vehicles and how to standardize road and trail signing conventions for OHVs. These five forests differ in their current direction for this type of recreational use. Confusion among OHV users over permitted types of travel and road and trail signs is common. The EIS will evaluate the growing popularity of OHVs and their impacts to the Forests. Existing direction for OHV use will be replaced with these Forest Plan amendments if supported by the analysis. The intention of the EIS is to preserve options for OHV use in local transportation planning while reducing impacts to resources.

DATES: Comments in response to this Notice of Intent concerning the scope of the analysis should be received in writing by May 15, 2001.

ADDRESSES: Send written comments to USDA Forest Service, Apache-Sitgreaves National Forest, P.O. Box 640, Springerville, Arizona 85938, ATTN: Land Management Planning.

RESPONSIBLE OFFICIALS: The Forest Supervisors of the Apache-Sitgreaves, Coconino, Kaibab, Prescott and Tonto National Forests will decide if it is necessary to more restrictively manage cross-country travel by OHVs and how to do so while standardizing signing for open roads and trails that may be used by OHVs.

FOR FURTHER INFORMATION CONTACT: Land Management Planner, Apache-Sitgreaves National Forest (520) 333-6370.

SUPPLEMENTARY INFORMATION: The five national forests involved in this currently have different management direction for cross-country use by Off Highway Vehicles (OHVs). This diversity of approaches has led to some confusion by the public as to where they may use OHVs. The growing numbers of OHVs used on national forest has also increased the impacts to land and resources within national forests. The growing popularity of this use has created conflicts with other forest uses and prompted many individuals and groups to express concerns over this matter.

Many types of OHVs are common in Arizona's National Forests. Pickup trucks, motorcycles, and all-terrain vehicles have all become more prevalent and now are beyond the scope considered for their use in forest plans. According to industry experts more than half of all vehicles sold in Arizona are sport utility vehicles (SUVs) or light trucks. Additionally, all-terrain vehicles have increased in sales between 1995 and 1998 an average of 29% per year. The use of such vehicles on national forests has been a concern of government agencies, organized environmental and OHV groups and individuals. This concern has accelerated in a pattern similar to the expanded population of OHVs.

Roads and trails created by wheeled OHVs are proliferating on all national forests in several regions. Agency personnel and the public note new user created trails on many national forests and roads almost every week. These trails arise from repetitive use of areas with fragile soils.

National forests in Arizona are experiencing noticeable impacts. Communities adjacent to national forests have become focal points for a large amount of unapproved roads and trails created by OHV users. These trails lack engineering and environmental elements of design and many contributed disproportionate environmental impact. Away from communities, similar impacts occur near popular recreation destinations. The EIS will deal with alternative strategies for OHV's cross country travel and how to develop a standardized signing convention for open roads, trails and user created travelways.

Additional concerns occur in environmentally sensitive areas. Specially designated wildlife protection areas are becoming crisscrossed with OHV tracts. Wilderness areas have frequently been impacted by OHV tracks; often immediately adjacent to closure signs. Riparian areas also attract a large number of people and provide key habitat elements to wildlife. OHV tracks and use areas have strongly impacted many of these ecological communities.

Off highway vehicles allow many people to enjoy the national forests and contribute significantly to the economy of communities. They have become very popular because of high quality recreational experiences they provide and the amount of land they open up to persons who formerly saw little of national forests.

Preliminary issues include: Confusion of OHV users over road and trail sign conventions, confusion over availability of areas open to OHVs, effects of OHV use on the environment, effects on jobs, effects on cultural resources, effects on species protected under the Endangered Species Act. Access to resource and access by mobility-limited persons seeking recreation opportunities are also preliminary issues.

An interdisciplinary team has been appointed by the Responsible Officials. They have examined documents of other agencies and Forest Service Regions to develop preliminary alternatives for analysis in an environmental impact statement. Comment on these preliminary alternatives during scoping could help the team analyze the alternatives and might suggest others that would ensure a complete analysis of reasonable and feasible strategies for providing recreation for OHV recreationists.

The preliminary alternatives include: “No Action” which would keep the existing forest plan direction on all five forests. Another alternative would strictly prohibit all cross-country travel. Under this alternative only officially sanctioned government created roads and trails would be available for OHV use. These roads would be a portion of roads within national forests that are not state, county or city highways or roads. A pair of alternatives would close forests to cross country travel with certain exceptions. These would include travel to a camping spot within 300 feet of a road or trail, retrieving previously tagged big game, disabled access,and permitted forest products. In one of the alternatives, the trails and roads within the forest would be open if they had a sign designating them open and the other alternative would only sign roads and trails that are closed to OHV traffic. One other alternative under consideration is designating areas open to OHV use.

Significant information has been obtained from “Arizona Trails 2000, State Motorized and Non-motorized Trails Plan” in determining preliminary issues and possible alternatives. Cooperation with Arizona State agencies who have OHV management roles has been excellant.

A preliminary scoping and public involvement plan has been developed. Comments on the nature and timing of scoping and public participation activities would be helpful to the team. Additional public notice will be given of specific planned activities when the scoping and public involvement plan is developed.

It is anticipated that environmental analysis and preparation of the draft and final environmental impact statements will take about one year. The Draft environmental Impact statement can be expected in the summer of 2001 and the Final EIS in the early winter. A 90-day comment period pursuant to 36 CFR 219.10b will be provided following the Notice of Availability for the public to make comments on the Draft Environmental Impact statement.

The Forest Service believes, at this early stage, it is important to give reviewers notice of several court rulings related to public participation in the environmental review process. To be the most helpful, comments on the draft environmental review process. To be the most helpful, comments on the draft environmental impact statement should be as specific as possible and may address the adequacy of the statement or the merits of the alternatives discussed (see Council of Environmental Quality Regulations for implementing the procedural provisions of the National Environmental Policy Act at 40 CFR 1503.3).

In addition, Federal court decisions have established that reviewers of draft environmental impact statements must structure their participation in the environmental review of the proposal so that it is meaningful and alerts an agency to the reviewers; position and contentions. Vermont Yankee Nuclear Power Corp. v. NRDC 435 US 519, 553 (1978). Environmental objections that could have been raised at the draft stage may be waived if not raised until after completion of the final environmental impact statement. City of Angoon v. Hodel 9th Circuit, 1986) and Wisconsin Heritages, Inc. v. Harris, 490F. Supp. 1334, 1338 (E.D. Wis. 1980). The reason for this is to ensure that substantive comments and objections are made available to the Forest Service at a time when it can meaningfully consider them in the final environmental impact statement.

Dated: March 22, 2001.
John C. Bedell,
Forest Supervisor, Apache-Sitgreaves National Forest.

[FR Doc. 01-7742 Filed 3-28-01; 8:45 am]

BILLING CODE 3410-11-M